DEPARTMENT OF ENERGY

Federal Energy Regulatory Commission

Combined Notice of Filings #1

Take notice that the Commission received the following electric corporate filings:

Docket Numbers: EC18-111-000.

Applicants: Grand River Wind LLC, Trishe Wind Ohio, LLC.

Description: Application for Approval Pursuant under Section 203 of the Federal Power Act of Grand River Wind LLC, et al.

Filed Date: 6/25/18.

Accession Number: 20180625-5135.

Comments Due: 5 p.m. ET 7/16/18.

Take notice that the Commission received the following electric rate filings:

Docket Numbers: ER10-2417-003; ER13-122-003.

Applicants: ExxonMobil Baton Rouge Complex, ExxonMobil Beaumont Complex.

Description: Triennial Market-Power Analysis for the Central Region of ExxonMobil Baton Rouge Complex, et al.

Filed Date: 6/25/18.

Accession Number: 20180625-5084.

Comments Due: 5 p.m. ET 8/24/18.

Docket Numbers: ER10-2437-011.

Applicants: Arizona Public Service Company.

Description: Notice of Non-Material Change in Status of Arizona Public Service Company.

Filed Date: 6/25/18.

Accession Number: 20180625-5092.

Comments Due: 5 p.m. ET 7/16/18.

Docket Numbers: ER10-3069-008; ER10-3070-008.

Applicants: Alcoa Power Marketing LLC, Alcoa Power Generating, Inc.

Description: Updated Market Power Analysis for Central Region of Alcoa Power Generating, Inc. and Alcoa Power Marketing LLC.

Filed Date: 6/22/18.

Accession Number: 20180622-5153.

Comments Due: 5 p.m. ET 8/21/18.

Docket Numbers: ER11-4633-004.

Applicants: Madison Gas and Electric Company.

Description: Updated Market Power Analysis of Madison Gas & Electric Company (Transmittal Letter).

Filed Date: 6/22/18.

Accession Number: 20180622-5172, 20180622-5181, 20180622-5182, 20180622-5180, 20180622-5183, 20180622-5184, 20180622-5185, 20180622-5186, 20180622-5193.

Comments Due: 5 p.m. ET 8/21/18.

Docket Numbers: ER18-1192-000.

Applicants: The Connecticut Light and Power Company.

Description: Report Filing: Fusion Solar Center, LLC Refund Report to be effective N/A.

Filed Date: 6/25/18.

Accession Number: 20180625-5081.

Comments Due: 5 p.m. ET 7/16/18.

Docket Numbers: ER18-1248-001.

Applicants: Southern California Edison Company.

Description: Tariff Amendment: SCE's Response to Deficiency re SCE's Revised WDAT—Energy Storage to be effective 5/30/2018.

Filed Date: 6/25/18.

Accession Number: 20180625-5075.

Comments Due: 5 p.m. ET 7/16/18.

Docket Numbers: ER18-1825-000.

Applicants: PJM Interconnection, L.L.C.

Description: § 205(d) Rate Filing: Amendment to ISA, SA No. 4315; Queue No. Z1-069/AB1-160 to be effective 10/26/2017.

Filed Date: 6/22/18.

Accession Number: 20180622-5151.

Comments Due: 5 p.m. ET 7/13/18.

Docket Numbers: ER18-1826-000.

Applicants: Southwest Power Pool, Inc.

Description: § 205(d) Rate Filing: 1883R7 Westar Energy, Inc. NITSA and NOA to be effective 9/1/2018.

Filed Date: 6/25/18.

Accession Number: 20180625-5028.

Comments Due: 5 p.m. ET 7/16/18.

Docket Numbers: ER18-1827-000.

Applicants: Southwest Power Pool, Inc.

Description: § 205(d) Rate Filing: 1884R7 Westar Energy, Inc. NITSA and NOA to be effective 9/1/2018.

Filed Date: 6/25/18.

Accession Number: 20180625-5029.

Comments Due: 5 p.m. ET 7/16/18.

Docket Numbers: ER18-1828-000.

Applicants: Southwest Power Pool, Inc.

Description: § 205(d) Rate Filing: 1885R7 Westar Energy, Inc. NITSA and NOA to be effective 9/1/2018.

Filed Date: 6/25/18.

Accession Number: 20180625-5032.

Comments Due: 5 p.m. ET 7/16/18.

Docket Numbers: ER18-1829-000.

Applicants: Southwest Power Pool, Inc.

Description: § 205(d) Rate Filing: 1886R7 Westar Energy, Inc. NITSA and NOA to be effective 9/1/2018.

Filed Date: 6/25/18.

Accession Number: 20180625-5034.

Comments Due: 5 p.m. ET 7/16/18.

Docket Numbers: ER18-1830-000.

Applicants: Southwest Power Pool, Inc.

Description: § 205(d) Rate Filing: 1887R7 Westar Energy, Inc. NITSA and NOA to be effective 9/1/2018.

Filed Date: 6/25/18.

Accession Number: 20180625-5035.

Comments Due: 5 p.m. ET 7/16/18.

Docket Numbers: ER18-1831-000.

Applicants: Southwest Power Pool, Inc.

Description: § 205(d) Rate Filing: 1888R7 Westar Energy, Inc. NITSA and NOA to be effective 9/1/2018.

Filed Date: 6/25/18.

Accession Number: 20180625-5041.

Comments Due: 5 p.m. ET 7/16/18.

Docket Numbers: ER18-1832-000.

Applicants: Southwest Power Pool, Inc.

Description: § 205(d) Rate Filing: 1889R7 Westar Energy, Inc. NITSA and NOA to be effective 9/1/2018.

Filed Date: 6/25/18.

Accession Number: 20180625-5044.

Comments Due: 5 p.m. ET 7/16/18.

Docket Numbers: ER18-1833-000.

Applicants: Southwest Power Pool, Inc.

Description: § 205(d) Rate Filing: 1890R7 Westar Energy, Inc. NITSA and NOA to be effective 9/1/2018.

Filed Date: 6/25/18.

Accession Number: 20180625-5045.

Comments Due: 5 p.m. ET 7/16/18.

Docket Numbers: ER18-1834-000.

Applicants: Southwest Power Pool, Inc.

Description: § 205(d) Rate Filing: 1891R7 Westar Energy, Inc. NITSA and NOA to be effective 9/1/2018.

Filed Date: 6/25/18.

Accession Number: 20180625-5053.

Comments Due: 5 p.m. ET 7/16/18.

Docket Numbers: ER18-1835-000.

Applicants: Southwest Power Pool, Inc.

Description: § 205(d) Rate Filing: 1892R7 Westar Energy, Inc. NITSA and NOA to be effective 9/1/2018.

Filed Date: 6/25/18.

Accession Number: 20180625-5064.

Comments Due: 5 p.m. ET 7/16/18.

Docket Numbers: ER18-1836-000.

Applicants: Auburndale Peaker Energy Center, L.L.C.

Description: Tariff Cancellation: Notice of Cancellation to be effective 6/26/2018.

Filed Date: 6/25/18.

Accession Number: 20180625-5076.

Comments Due: 5 p.m. ET 7/16/18.

Docket Numbers: ER18-1837-000.

Applicants: Arizona Public Service Company.

Description: § 205(d) Rate Filing: Corrections to the APS LGIP and LGIA to be effective 8/25/2018.

Filed Date: 6/25/18.

Accession Number: 20180625-5077.

Comments Due: 5 p.m. ET 7/16/18.

Docket Numbers: ER18-1838-000.

Applicants: Southwest Power Pool, Inc.

Description: § 205(d) Rate Filing: 3459 Sunflower and SPS Interconnection Agreement to be effective 6/26/2018.

Filed Date: 6/25/18.

Accession Number: 20180625-5083.

Comments Due: 5 p.m. ET 7/16/18.

Docket Numbers: ER18-1839-000.

Applicants: ExxonMobil Baton Rouge Complex.

Description: Compliance filing: Market Based Rates Compliance to be effective 6/26/2018.

Filed Date: 6/25/18.

Accession Number: 20180625-5088.

Comments Due: 5 p.m. ET 7/16/18.

Docket Numbers: ER18-1840-000.

Applicants: NorthWestern Corporation.

Description: § 205(d) Rate Filing: Revised Rate Schedule FERC No. 188 (MT)—Colstrip 1 & 2 Transmission Agreement to be effective 9/1/2018.

Filed Date: 6/25/18.

Accession Number: 20180625-5105.

Comments Due: 5 p.m. ET 7/16/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 25, 2018.
Nathaniel J. Davis, Sr.,
Deputy Secretary.

[FR Doc. 2018-14122 Filed 6-29-18; 8:45 am]

BILLING CODE 6717-01-P